DEPARTMENT OF ENERGY

Federal Energy Regulatory Commission

Combined Notice of Filings #2

Take notice that the Commission received the following exempt wholesale generator filings:

Docket Numbers: EG13-16-000.

Applicants: Prairie Breeze Wind Energy LLC.

Description: Notice of Self-Certification of Exempt Wholesale Generator Status of Prairie Breeze Wind Energy LLC.

Filed Date: 2/27/13.

Accession Number: 20130227-5073.

Comments Due: 5 p.m. ET 3/20/13.

Take notice that the Commission received the following electric rate filings:

Docket Numbers: ER10-2763-007; ER10-2732-007; ER10-2733-007; ER10-2734-007; ER10-2736-007; ER10-2737-007; ER10-2741-007; ER10-2749-007; ER12-2492-003; ER12-2493-003; ER10-2752-007; ER12-2494-003; ER12-2495-003; ER12-2496-003.

Applicants: Bangor Hydro Electric Company, Emera Energy Services, Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, iii Emera Energy Services Subsidiary No. 9 LLC, Emera Energy Services Subsidiary No. 10 LLC.

Description: Notice of Change in Status of Bangor Hydro Electric Company, et al.

Filed Date: 2/27/13.

Accession Number: 20130227-5084.

Comments Due: 5 p.m. ET 3/20/13.

Docket Numbers: ER13-469-001.

Applicants: Southwest Power Pool, Inc.

Description: Response to Deficiency Filing—ER13-469 to be effective 11/14/2012.

Filed Date: 2/27/13.

Accession Number: 20130227-5075.

Comments Due: 5 p.m. ET 3/20/13.

Docket Numbers: ER13-692-003.

Applicants: Midwest Independent Transmission System Operator, Inc.

Description: Midwest Independent Transmission System Operator, Inc. submits tariff filing per 35.17(b): 2013-02-28_OASIS Att J Errata to be effective 4/15/2013.

Filed Date: 2/27/13.

Accession Number: 20130227-5101.

Comments Due: 5 p.m. ET 3/20/13.

Docket Numbers: ER13-994-000.

Applicants: Westar Energy, Inc.

Description: Kansas Power Pool, Revision to Participation Power Agreement to be effective 5/1/2013.

Filed Date: 2/27/13.

Accession Number: 20130227-5064.

Comments Due: 5 p.m. ET 3/20/13.

Docket Numbers: ER13-995-000.

Applicants: California Independent System Operator Corporation.

Description: California Independent System Operator Corporation submits tariff filing per 35.13(a)(2)(iii): 2013-02-27 Pay for Performance to be effective 5/1/2013.

Filed Date: 2/27/13.

Accession Number: 20130227-5074.

Comments Due: 5 p.m. ET 3/20/13.

Docket Numbers: ER13-996-000.

Applicants: ATO Power, Inc.

Description: Initial Filing to be effective 3/25/2013.

Filed Date: 2/27/13.

Accession Number: 20130227-5093.

Comments Due: 5 p.m. ET 3/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2013.
Nathaniel J. Davis, Sr.,
Deputy Secretary.

[FR Doc. 2013-05137 Filed 3-5-13; 8:45 am]

BILLING CODE 6717-01-P